DEPARTMENT OF COMMERCE

National Oceanic and Atmospheric Administration

RIN: 0648-XG79

North Pacific Fishery Management Council; Public Meeting

AGENCY: National Marine Fisheries Service (NMFS), National Oceanic and Atmospheric Administration (NOAA), Commerce.

ACTION: Notice of a public meeting.

SUMMARY: The North Pacific Fishery Management Council's (Council) Non-Target Species Committee will meet April 23, 2008 at the Alaska Fishery Science Center, National Marine Mammal Conference Room.

DATES: The meeting will be held on April 23, 2008, from 9 a.m. to 5 p.m.

ADDRESSES: The meeting will be held at the Alaska Fishery Science Center, 7600 Sand Point Way NE, Bldg 4, Seattle, WA. It will also be held by teleconference at the National Marine Fisheries Service, 709 W 9th, Juneau, AK (8 a.m. AST).

Council address: North Pacific Fishery Management Council, 605 W. 4th Ave., Suite 306, Anchorage, AK 99501-2252.

FOR FURTHER INFORMATION CONTACT: Jane DiCosimo, Council staff; telephone: (907) 271-2809.

SUPPLEMENTARY INFORMATION: The Non-Target Species Committee will consider possible priorities for breaking out different groups from the “other species” complexes in the BSAI and GOA groundfish fishery management plans. The need to set these priorities is to take quicker action for more vulnerable groups. The committee and have expressed concern that analyzing a broader set of alternatives (which addresses sharks, squids, sculpins, and octopuses in the GOA; sharks, skates, sculpins, and octopuses in the BSAI; and possibly grenadiers in the GOA and BSAI) in one analysis may result in an unmanageable decision making document. Management of these species groups (plus additional multiple sub-area, sub-allocation, and seasonal apportionments) poses numerous management and regulatory difficulties and may result in unintended consequences on fishing fleets. The proposed priorities for action include: (1) move BSAI and/or GOA squid into the forage fish category; (2) move BSAI and/or GOA octopus into the forage fish category or remove it from the FMPs and defer management to the State of Alaska; (3) delete an alternative to add grenadiers to the TAC specification process; and (4) separate the proposed alternatives into distinct BSAI and GOA amendment packages. The Committee will develop recommendations on these priority actions.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen, (907) 271-2809, at least 5 working days prior to the meeting date.

Dated: March 31, 2008.
Tracey L. Thompson,
Acting Director, Office of Sustainable Fisheries, National Marine Fisheries Service.

[FR Doc. E8-6880 Filed 4-2-08; 8:45 am]

BILLING CODE 3510-22-S